DEPARTMENT OF ENERGY

Federal Energy Regulatory Commission

Notice of Effectiveness of Exempt Wholesale Generator Status

| Docket Nos.
Stella Wind Farm, LLC | EG18-72-000
Calpine Mid-Merit II, LLC | EG18-73-000
GenOn Holdco 10, LLC | EG18-74-000
CED Upton County Solar, LLC | EG18-75-000
CED Wistaria Solar, LLC | EG18-76-000
Walnut Ridge Wind, LLC | EG18-77-000
Pine River Wind Energy LLC | EG18-78-000
Sholes Wind Energy, LLC | EG18-79-000

Take notice that during the month of June 2018, the status of the above-captioned entities as Exempt Wholesale Generators Companies became effective by operation of the Commission's regulations. 18 CFR 366.7(a) (2017).

Dated: July 16, 2018.
Kimberly D. Bose,
Secretary.

[FR Doc. 2018-15558 Filed 7-19-18; 8:45 am]

BILLING CODE 6717-01-P